DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has granted or denied the application described herein.

DATES: Comments must be received on or before September 5, 2025.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on August 4, 2025.
T. Glenn Foster,
Chief, Regulatory Review and Reinvention Branch, Office of Hazardous Materials Safety, Pipeline and Hazardous Materials Safety Administration.

Application No. | Applicant | Regulation(s) affected | Nature of the special permits thereof
Special Permits Data—Granted
7945-M | Meggitt Safety Systems, Inc | 173.304a(a)(1) | To modify the special permit to authorize additional cylinder marking methods.
10814-M | Spellman High Voltage Electronics Corporation | 173.302a | To modify the special permit to authorize an additional packaging.
11725-M | Thales Alenia Space Italia Spa | 173.301(f), 173.302a(a)(1), 173.304a(a)(2) | To modify the special permit to authorize an additional packaging.
11818-M | Northrop Grumman Systems Corporation | 173.301(f), 173.302a(a)(1), 173.304a(a)(2) | To modify the special permit to authorize an additional hazardous material.
13169-M | ConocoPhillips Alaska, Inc | 172.101(j)(1), 173.27(b)(3) | To modify the special permit to authorize the removal of technical names and a different main hub.
14152-M | Entegris, Inc | 173.27(f)(3), 173.187(a), 173.187(b), 173.187(c) | To modify the special permit to authorize an additional hazardous material.
15404-M | Proserv UK Ltd | 173.201, 173.301(f), 173.302a, 173.304a | To modify the special permit to authorize additional cylinder designs.
20251-M | Salco Products Inc | 172.203(a), 178.345-1, 180.413 | To modify the special permit to authorize additional manway assemblies.
20279-M | Kaplan Industries, Inc | 180.207(d)(1) | To modify the special permit to authorize an additional cylinder.
20493-M | Tesla, Inc | 172.101(j) | To modify the special permit to authorize an additional battery.
21297-M | Luxfer Canada Limited | 173.301(i), 178.75 | To modify the special permit to authorize different methods of requalification, an increase in the maximum service use, and alternative bonfire acceptance criteria.
21427-N | Walmart Inc | 49 CFR Parts 171-180 | To authorize the transportation in commerce of certain hazardous materials as not subject to the Hazardous Materials Regulations when transported to their final delivery destination.
21433-M | Pyrotek Special Effects Rock Lititz Inc | 173.306(k)(1)(iv)(A), 173.306(k)(1)(iv)(B) | To modify the special permit to authorize additional packaging and marking.
21898-N | Mercedes-Benz AG | 173.309(c)(3), 173.309(c)(4) | To authorize the transportation in commerce of non-specification fire extinguishers constructed to a foreign specification that do not meet the requirements of 49 CFR 173.309(c)(3) and (4).
21940-N | Shijiazhuang Enric Gas Equipment Co., Ltd | 178.37(k)(2)(i), 178.37(l), 178.45(j)(1), 178.45(k)(2) | To authorize the manufacture, mark, sale and use of specification DOT 3AA, 3AAX and DOT 3Tcylinders using an alternative tensile test specimen for batch acceptance as specified in the UN ISO 11120.
21947-N | Amazon.com, Inc | 172.315(a)(2) | To authorize the transportation in commerce of hazardous materials qualifying for a limited quantity exception, using a reduced size limited quantity mark for customer return shipments.
21956-N | Zoox, Inc | 172.101(j) | To authorize the transportation in commerce of lithium batteries exceeding 35 kg via cargo-only aircraft.
21992-N | Tesla, Inc | 173.185(b), 173.185(b)(3)(i) | To authorize the transportation in commerce by motor vehicle and rail freight of lithium cells packaged within a UN50H rigid plastic Large Packaging.
22009-N | Garrett Transfer and Storage, Inc | 173.196(a), 173.196(b), 173.199, 178.609 | To authorize the transportation of certain Division 6.2 infectious substances and biological substances in alternative packaging (freezers) transported in privately owned motor vehicles by highway.
22054-N | Tesla, Inc | 172.101(j), 173.185(a) | To authorize the transportation in commerce of lithium-ion battery powered vehicles and prototype lithium ion batteries that exceed 35 kg by cargo-only aircraft that have not been tested in accordance with Section 38.3 of the UN Manual Tests and Criteria.
22064-N | Daicel Safety Systems (Thailand) Company Limited | 173.301(a)(1), 173.302a(a), 178.65(b), 178.65(c)(3), 178.65(e)(1), 178.65(f)(1), 178.65(g), 178.65(i)(1) | To authorize the manufacture, mark, sale and use of non-DOT specification cylinders (pressure vessels) for use as components of vehicle safety systems.
22071-N | United States Environmental Protection Agency | 173.21(b), 173.51(a), 173.54(a), 173.56(b) | To authorize the transportation of unapproved fireworks from Commerce, CA to the CalFire magazine in Mojave, CA and disposal at Naval Air Weapons Station China Lake.
Special Permits Data—Denied
21326-M | Channel Medsystems, Inc | 173.304(f)(3) | To modify the special permit to remove the Operation Controls in Paragraph 7.c. of the special permit.
21813-N | Norsk, Inc | 172.200 | To authorize the transportation in commerce of lithium batteries exceeding 300 Wh by motor vehicle without shipping papers.
21983-N | Resonac America, Inc | 178.35 | To authorize the transportation in commerce of foreign cylinders containing Dichlorosilane.
22017-N | Starfire Corporation | 173.56(b) | To authorize the transportation in commerce of packaged firework components from one facility to another without classification.
Special Permits Data—Withdrawn
21323-M | Canadian Pacific Railway Company | 172.203(a), 174.26(a) | To modify the special permit to include The Kansas City Southern Railway Company.
22014-N | Starfish Space Inc | 172.203(a), 172.301(c), 172.400, 173.301(f)(1), 173.302a(a)(1), 173.304a(a)(1) | To authorize the transportation in commerce of non-DOT specification cylinders that are not equipped with pressure relief devices that is further incorporated into an orbital spacecraft.
22022-N | Snatch-It LLC | 173.306(a)(1) | To authorize the transportation in commerce of 2P inner containers containing butane as a limited quantity when the capacity of the receptacle exceeds 4 fluid ounces.
22026-N | Pushback Limited | 172.200, 172.400, 172.500, 173.302a(a)(1), 174.1, 177.800 | To authorize the transportation in commerce of DOT 2Q inner containers containing gases not otherwise authorized in that packaging type.
22053-N | Cargojet Airways Ltd | 172.101(j) | To authorize the one-time one-way movement of forbidden explosives by cargo-only aircraft.

[FR Doc. 2025-14938 Filed 8-5-25; 8:45 am]

BILLING CODE P